DEPARTMENT OF THE INTERIOR

Bureau of Land Management

[AZ-010-1210-ET; AZA-31344]

Cancellation of Proposed Withdrawal; Arizona

AGENCY: Bureau of Land Management, Interior.

ACTION: Notice.

SUMMARY: This notice terminates the segregative effect of a proposed withdrawal of 299,952.41 acres of lands requested by the Bureau of Land Management at the Paria Plateau. On November 9, 2000, the Vermilion Cliffs National Monument was established by Presidential Proclamation No. 7374, so the withdrawal is not needed. This notice opens the lands, that are not located within the Vermilion Cliffs National Monument, to surface entry and mining.

EFFECTIVE DATE: March 19, 2001.

FOR FURTHER INFORMATION CONTACT: Laurie Ford, BLM Arizona Strip Field Office, 345 East Riverside Drive, St. George, Utah 84790, 435-688-3200.

SUPPLEMENTARY INFORMATION: A Notice of Proposed Withdrawal was published in the Federal Register, FR 00-20678, August 15, 2000, which temporarily segregated the lands described therein from location and entry under the general land laws, including the mining laws, subject to valid existing rights. The new Vermilion Cliffs National Monument includes most of the lands proposed for withdrawal, so the Bureau of Land Management has determined that the proposed withdrawal is not needed and has cancelled its application.

At 9 a.m. on March 19, 2001, the lands that were described in the Notice of Proposed Withdrawal in the Federal Register, FR 00-20678, August 15, 2000, that are not located within the Vermilion Cliffs National Monument, will be opened to operation of the public land laws generally, subject to valid existing rights, the provision of existing withdrawals, other segregations of record, and the requirements of applicable law. All valid applications received at or prior to 9 a.m. on March 19, 2001, shall be considered as simultaneously filed at that time. Those received thereafter shall be considered in the order of filing.

At 9 a.m. on March 19, 2001, the lands that were described in the Notice of Proposed Withdrawal in the Federal Register, FR 00-20678, August 15, 2000, that are not located within the Vermilion Cliffs National Monument will be opened to location and entry under the United States mining laws, subject to valid existing rights, the provision of existing withdrawals, and other segregations of record. Appropriation of any of the lands referenced in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: February 5, 2001.
Michael A. Ferguson,
Deputy State Director, Resources Division.

[FR Doc. 01-3893 Filed 2-15-01; 8:45 am]

BILLING CODE 4310-32-P